DEPARTMENT OF AGRICULTURE

Submission for OMB Review; Comment Request

April 23, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by May 29, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Animals and Poultry, Animal and Poultry Products, Certain Animal Embryos, Semen, and Zoological Animals.

OMB Control Number: 0579-0040.

Summary of Collection: Title 21 U.S.C. authorizes sections 111, 114, 114a, 114-1, 115, 120, 121, 125, 126, 134a, 134f, and 134g of 21 U.S.C. These authorities permit the Secretary to prevent, control and eliminate domestic diseases such as brucellosis and tuberculosis, as well as to take actions to prevent and to manage exotic diseases such as foot-and-mouth disease and rinderpest. Disease prevention is the most effective method for maintaining a healthy animal population and enhancing the Animal and Plant Health Inspection Service (APHIS) ability to compete in exporting animals and animal products. To fulfill this mission APHIS must collect pertinent information from those individuals who import animals and poultry, animal and poultry products, zoological animals, or animal germplasm into the United States. APHIS will collect information using several forms.

Need and Use of the Information: APHIS will collect information from foreign animal health authorities as well as U.S. importers; foreign exporters; veterinarians and animal health technicians in other countries; State animal health authorities; shippers; owners and operators of foreign processing plants and farms; USDA-approved zoos, laboratories, and feedlots; private quarantine facilities; and other entities involved (directly or indirectly) in the importation of animal and poultry, animals and poultry products, zoological animals, and animal germplasm. The information includes such data as the last reported outbreak of a given animal disease in the region; the names of the exporter and importer of the animal commodities; the origins of the animals or animal products to be imported; the health status of the animals or the processing methods used to produce animal products to be imported; the destination of delivery in the United States; and whether the animals or animal products were temporarily offloaded in another country during transit to the United States. APHIS needs this information to help ensure that these imports do not introduce foreign animal diseases into the United States.

Description of Respondents: Business or other for-profit; Farms; Individuals and Households; Federal Governments; and State, Local, and Tribal Governments.

Number of Respondents: 1,278.

Frequency of Responses: Recordkeeping; Reporting: On occasion.

Total Burden Hours: 31,923.

Animal and Plant Health Inspection Service.

Title: Blood and Tissue Collection at Slaughtering Establishments.

OMB Control Number: 0579-0212.

Summary of Collection: The Animal Health Protection Act (AHPA) of 2002 is the primary Federal law governing the protection of animal health. The law gives the Secretary of Agriculture broad authority to detect, control, or eradicate pest or diseases of livestock or poultry. The AHPA is contained in Title X, Subtitle E, Sections 10401-18 of Public Law 107-171, May 13, 2002, the Farm Security and Rural Investment Act of 2002. Veterinary Services, a program within USDA's Animal and Plant Health Inspection Service (APHIS), administers regulations governing the interstate movement of animals to prevent the dissemination of animal disease within the United States. These regulations are contained in title 9 CFR, subchapter C, Interstate Transportation of Animals (including poultry) and Animal Products, part 71. The regulations also address animal testing for disease surveillance. Disease surveillance activities are conducted at slaughtering and rendering facilities under listing agreements signed by Federal personnel and slaughter and rendering establishment owners and operators. An establishment is listed after it undergoes inspection to ensure that it meets facility and access requirements.

APHIS will collect information from these establishing using a listing agreement, correspondence regarding withdrawal of listing as well as appeals for denial or withdrawal of listing, and VS Form 10-5, the Facility Inspection Report.

Need and Use of the Information: APHIS uses the signed listing agreement and VS Form 10-5 to establish a process for routine inspections of slaughter and rendering establishments before an outbreak of an emerging or foreign animal disease; this decreases the time needed to locate affected animals and to eradicate or control the spread of disease. Correspondence regarding withdrawal of listing, and appeals of denial or withdrawal of listing, help APHIS control this process. To date, APHIS has not had to use inspection and listing information because of an emerging or foreign animal disease, but has used it periodically for domestic program disease surveillance (such as for brucellosis in cattle and bison).

Description of Respondents: Business or other for-profit.

Number of Respondents: 1,925.

Frequency of Responses: Reporting: On occasion.

Total Burden Hours: 1,605.

Animal and Plant Health Inspection Service

Title: Animal Disease Traceability.

OMB Control Number: 0579-0327.

Summary of Collection: The Animal Health Protection Act of 2002 (7 U.S.C. 8301-8317) is the primary Federal law governing the protection of animal health. The law gives the Secretary of Agriculture broad authority to detect, control, or eradicate pests or diseases of livestock or poultry. As part of its ongoing efforts to safeguard animal health, the U.S. Department of Agriculture's Animal and Plant Health Inspection Service (APHIS) developed the Animal Disease Traceability (ADT) framework to provide a system that could provide for animal traceability. Traceability helps document the movement history of an animal throughout its life, including during an emergency response or for ongoing animal disease programs. States and Tribal Nations are able to establish the ability to trace animals moving interstate back to their State of origin.

APHIS made systems for animal disease traceability available to Tribal Nations for managing the issuance of unique location identification numbers, including the Standardized Premises Location System and a Tribal Premises Location System, which required completion and submission of Veterinary Services Form 1-63, Tribal Location Identification System Implementation Request. States, Tribes, and territories are responsible for implementing their own traceability systems that align with the framework and other activities to advance animal disease traceability. These systems, which the States and Tribes will describe in their long-term traceability plans, are referred to as ADT Road Maps. In addition, the ADT framework includes the National Uniform Eartagging System (NUES).

The previous name for this collection was “Animal Disease Traceability; Tribal Nations Using Systems for Location Identification.” However, based on the January 2013 final rule, there are other entities who must meet the animal disease traceability requirements; therefore, we are changing the name of this collection to “Animal Disease Traceability.”

Need and Use of the Information: APHIS will use the information provided on VS 1-63 to contact States and Tribal Governments and help them use the premises registration system they selected. In addition, within the ADT Framework, the NUES gives nationally unique identification numbers for animals that need official identification. To distribute and use official identification Eartags, APHIS requires several information collection activities that are to be completed by Animal producers, market/buying station operators, feedlot operators, laboratory staff, device manufacturers, Dairy Herd Information Association officials, and slaughter plant personnel. If this information was not collected, APHIS' ability to address traceability needs would be significantly hampered.

Description of Respondents: State, Local, or Tribal Government; Businesses.

Number of Respondents: 273,645.

Frequency of Responses: Recordkeeping; Reporting: On occasion.

Total Burden Hours: 839,600.

Animal and Plant Health Inspection Service

Title: Importation of Tomatoes with Stems from the Republic of Korea into the United States.

OMB Control Number: 0579-0371.

Summary of Collection: Under the Plant Protection Act (PPA, 7 U.S.C. 7701 Et Seq.), the Secretary of Agriculture is authorized to prohibit or restrict the importation, entry, or interstate movement of plants, plant products, and other articles to prevent the introduction of plant pests into the United States or their dissemination within the United States. As authorized by the PPA, the Animal and Plant Health Inspection Service (APHIS) regulates the importation of certain fruits and vegetables in accordance with the regulations contained in “Subpart-Fruits and Vegetables” (7 CFR 319.56 through 319.56-61). Under the regulations, tomatoes with stems from the Republic of Korea may be imported into the United States under certain conditions.

Need and Use of the Information: APHIS will use the following information collection activities to collect information: registered pest-exclusionary structure, monthly inspection of pest-exclusionary structures, records of trap placement, and a phytosanitary certificate with an additional declaration stating that the tomatoes were produced in accordance with the regulations.

Description of Respondents: Businesses or other for profit; `Federal Government.

Number of Respondents: 3.

Frequency of Responses: Reporting: On occasion.

Total Burden Hours: 7.

Ruth Brown,
Departmental Information Collection Clearance Officer.

[FR Doc. 2014-09627 Filed 4-28-14; 8:45 am]

BILLING CODE 3410-34-P